DEPARTMENT OF AGRICULTURE

Submission for OMB Review; Comment Request

December 7, 2011.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: 7 CFR part 235 State Administrative Expense Funds.

OMB Control Number: 0584-0067.

Summary of Collection: Because the Food and Nutrition Service (FNS) is accountable for State Administrative Expense (SAE) funds by fiscal year, State Agencies (SAs) are requested to report their SAE budget information on that basis. If the State budgets coincide with a fiscal year other than that used by the Federal government, the SA must convert its State budget figures to amounts to be used during the applicable Federal fiscal year for this purpose. In 7 CFR part 235, State Administrative Expense Funds, there are five reporting requirements, which necessitate the collection of information. They are as follows: SAE Plan, Reallocation Report, Coordinated Review Effort (CRE) Data Base Update, Report of SAE Funds Usage, and Responses to Sanctions. SAs also must maintain records pertaining to SAE. These include Ledger Accounts, Source Documents, Equipment Records and Record on State Appropriated Funds. FNS will collect information using forms FNS-74 and 525.

Need and Use of the Information: FNS will collect information on the total SAE cost the SA expects to incur in the course of administering the Child Nutrition Programs (CNPs); the indirect cost rate used by the SA in charging indirect cost to SAE, together with the name of the Federal agency that assigned the rate and the date the rate was assigned; breakdown of the current year's SAE budget between the amount allocated for the current year and the amount carried over from the prior year; and the number and types of personnel currently employed in administering the CNPs. The information is used to determine whether SA intends to use SAE funds for purposes allowable under OMB Circular A-87, Cost Principles for State and Local Governments; does SA's administrative budget provide for sufficient funding from State sources to meet the Maintenance of Effort requirement; and is SA's staff adequate to effectively administer the programs covered by the SA's agreement with FNS.

Description of Respondents: State, Local or Tribal Government.

Number of Respondents: 88.

Frequency of Responses: Recordkeeping; Reporting: Annually.

Total Burden Hours: 13,525.

Food and Nutrition Service

Title: Supplemental Nutrition Assistance Program (SNAP) Employment and Training (E & T) Program Activity Report.

OMB Control Number: 0584-0339.

Summary of Collection: The Balanced Budget Act of 1997 (Pub. L. 105-33), enacted on August 5, 1997, modified the Employment and Training (E&T) Program so that States' efforts are now focused on a particular segment of the Supplemental Nutrition Assistance Program (SNAP) (formerly known as the Food Stamp Program) population—able-bodied adults without dependents (ABAWDs). Section 6(d) of the Food Stamp Act of 1977 and 7 CFR 273.7 require each SNAP household members who is not exempt shall be registered for employment by the State agency at the time of application and once every twelve months thereafter, as a condition of eligibility. This requirement pertains to non-exempt SNAP household members age 16 to 60. Each State agency must screen each work registrant to determine whether to refer the individual to its E&T Program. States' E&T Programs are federally funded through an annual E&T grant. Both the Food Stamp Act and regulations require States to file quarterly reports about their E&T Programs so that the Food and Nutrition Service (FNS) can monitor their performance.

Need and Use of the Information: FNS will collect quarterly reports about their E&T programs so that the Department can monitor State performance to ensure that the program is being efficiently and economically operated. Without the information FNS would be unable to make adjustments or allocate exemptions in accordance with the statute.

Description of Respondents: State, Local, or Tribal Government.

Number of Respondents: 53.

Frequency of Responses: Recordkeeping; Reporting: Quarterly; Annually.

Total Burden Hours: 26,083.

Food and Nutrition Service

Title: Waivers Under Section 6(o) of the Food and Nutrition Act.

OMB Control Number: 0584-0479.

Summary of Collection: Section 824 of the Personal Responsibility and Work Opportunity Reconciliation Act of 1996, Public Law 104-193 (PRWORA) establishes a time limit for the receipt of Supplemental Nutrition Assistance Program (SNAP) (formerly known as the Food Stamp Program) benefits for certain able-bodied adults who are not working. The provision authorizes the Secretary of Agriculture, upon a State agency's request, to waiver the provision for any group of individuals if the Secretary determines “that the areas in which the individuals reside has an unemployment rate of over 10 percent or does not have a sufficient number of jobs to provide employment for the individuals.”

Need and Use of the Information: The Food and Nutrition Service uses the information provided by State SNAP agencies to evaluate whether the statutory requirements for a waiver of the SNAP time limit have been met and to determine specifically whether the designated areas' unemployment rate is over ten percent or if there is a lack of sufficient jobs available. If the information is not collected, the State SNAP agencies could not obtain waivers of time limits contained in Section 6(o) of the Act.

Description of Respondents: State, Local, or Tribal Government; Individuals or household; Federal Government.

Number of Respondents: 48.

Frequency of Responses: Reporting: On occasion, Annually.

Total Burden Hours: 1,308.

Food and Nutrition Service

Title: Supplemental Nutrition Assistance Program (SNAP) Pre-Screening Tool.

OMB Control Number: 0584-0519.

Summary of Collection: Consistent with Section 5 of the Food Stamp Act of 1977, the Food and Nutrition Service (FNS) has initiated this program to enable potential Supplemental Nutrition Assistance Program (SNAP) (formerly known as the Food Stamp Program) applicants to assess their eligibility and the order of magnitude of the potential benefit they may qualify for. This Pre-Screening Tool also enables citizen advocacy groups to help constituents assess their benefit eligibility. This will also help the Supplemental Nutrition Assistance Program fulfill its role as a means-tested program in accordance with Section 5 of the Food Stamp Act and Part 273 of the SNAP regulations.

Need and Use of the Information: This SNAP Pre-Screening Tool will be accessible to the public as an online Web-based system. The user will be prompted to enter household size, income, expenses and resource information, and the tool will calculate and provide the user with an estimated range of benefits that the household may be eligible to receive. This information will help FNS determine the degree and type of system usage as well as potential areas for further study.

Description of Respondents: Individuals or households; State, Local, or Tribal Government; Not-for-profit institutions.

Number of Respondents: 396,000.

Frequency of Responses: Reporting: On occasion.

Total Burden Hours: 66,132.

Food and Nutrition Service

Title: FNS User Access Request Form.

OMB Control Number: 0584-0532.

Summary of Collection: The Office of Management and Budget Circular No. A-130, Appendix III, Security of Federal Automated Information Resources, dated February 8, 1996, established a minimum set of controls to be included in Federal automated information security programs. Establishing personal controls to screen users to allow access to an authorized system is directed in this appendix. The Food and Nutrition Service (FNS) User Access Request Form, FNS-674, is designed for this purpose and will be used in all situations where access to an FNS computer system is required, where current access is required to be modified, or where access is no longer required and must be deleted. Users who access FNS systems are: State agencies, other Federal agencies, FNS Regional offices, FNS Field offices, FNS Compliance Offices, staff contractors, and FNS headquarters staff.

Need and Use of the Information: The State Coordinator is responsible for ensuring that State users and entities comply with the FNS Information Systems Security Guidelines and the Procedures Handbook 702 developed for State systems for their use in maintaining proper controls over FNS security features used by State clients. The information to be collected is: Name, e-Authentication ID, telephone number, home zip code, email address, contract expiration date, temporary employee expiration date, office address, State/locality codes, system name, form type, type of access, action requested, comments and special instructions. If access were not granted, users would be denied access to systems needed to deliver FNS programs.

Description of Respondents: State, Local, or Tribal Government; Federal Government; Businesses or other for-profit.

Number of Respondents: 225.

Frequency of Responses: Reporting: On occasion.

Total Burden Hours: 73.

Ruth Brown,
Departmental Information Collection Clearance Officer.

[FR Doc. 2011-31861 Filed 12-12-11; 8:45 am]

BILLING CODE 3410-30-P